CONSUMER PRODUCT SAFETY COMMISSION

[Docket No. CPSC-2022-0020]

Electronic Filing of Certificate of Compliance Data: Announcement of Expansion of PGA Message Set Test and Request for Additional Participants

AGENCY: Consumer Product Safety Commission.

ACTION: Notice.

SUMMARY: The U.S. Consumer Product Safety Commission (CPSC), in consultation with U.S. Customs and Border Protection (CBP), announce their joint intent to expand the current Partner Government Agency (PGA) Message Set test (Beta Pilot) to include up to 2,000 additional participants. This expansion would allow importers of regulated consumer products to voluntarily participate in the test by electronically submitting (eFiling) data from a certificate of compliance for up to three additional years, or until an effective date of a final rule requiring eFiling. Beta Pilot test participants will eFile certificate data to the CBP-authorized Electronic Data Interchange (EDI) system known as the Automated Commercial Environment (ACE). CPSC also seeks comment on the revised burden estimates for this expanded collection of information.

DATES:

Beta Pilot Test: Submit electronic requests to participate in the expanded Beta Pilot test at any time after publication of this notice. CPSC will allow participation until we reach 2,000 volunteers or until an eFiling requirement becomes permanent, whichever comes first. CPSC asks that each Beta Pilot test participant electronically file CPSC PGA Message Set certificate data during the expanded Beta Pilot test.

Paperwork Reduction Act: Submit comments on the proposed expanded collection of information by August 5, 2024 using the methods described below in the ADDRESSES section of this preamble.

ADDRESSES:

Beta Pilot Test: Submit requests to participate in the Beta Pilot test and any technical comments on CPSC's supplemental Customs and Trade Automated Interface Requirements (CATAIR) guideline (available on CPSC.gov ¹ and CBP.gov ²) through email to: efilingpilot@cpsc.gov. Requests to participate in the Beta Pilot test should contain the subject heading: “Beta Pilot: Application to participate in Expanded PGA Message Set Test.” Technical comments on CPSC's supplemental CATAIR guideline should contain the subject heading: “Beta Pilot CATAIR Technical Comments.”

¹ https://www.cpsc.gov/eFiling-Document-Library.

² https://www.cbp.gov/trade/ace/catair.

Paperwork Reduction Act: You may submit comments, identified by Docket No. CPSC-2022-0020, by any of the following methods:

Electronic Submissions: Submit electronic comments to the Federal eRulemaking Portal at: https://www.regulations.gov. Follow the instructions for submitting comments. CPSC typically does not accept comments submitted by email, except through www.regulations.gov. CPSC encourages you to submit electronic comments by using the Federal eRulemaking Portal, as described above.

Mail/Hand Delivery/Courier/Confidential Written Submissions: Submit comments by mail, hand delivery, or courier to: Office of the Secretary, Consumer Product Safety Commission, 4330 East-West Highway, Bethesda, MD 20814; (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to https://www.regulations.gov. Do not submit through this website: Confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2022-0020, into the “Search” box, and follow the prompts. A copy of the “Supporting Statement” for this burden estimate is available at: https://www.regulations.gov under Docket No. CPSC-2022-0020, Supporting and Related Material.

FOR FURTHER INFORMATION CONTACT: Questions regarding the Beta Pilot test, participation in the test, and the proposed expanded collection of information should be directed to Arthur Laciak, eFiling Program Specialist, Office of Import Surveillance, U.S. Consumer Product Safety Commission, (301) 504-7516, efilingpilot@cpsc.gov. Questions sent by email should contain the subject heading: “Beta Pilot: Question re Expanded PGA Message Set Test.” For technical questions regarding ACE or Automated Broker Interface (ABI) transmissions, or the PGA message set data transmission, please contact your assigned CBP client representative. Interested parties without an assigned client representative should submit an email to Tsutomu Morishita at: Tsutomu.Morishita@cbp.dhs.gov.

SUPPLEMENTARY INFORMATION:

I. Background

On June 10, 2022, CPSC announced in the Federal Register (87 FR 35513) a joint Beta Pilot test with CBP to assess eFiling certificate data for regulated consumer products and substances under CPSC's jurisdiction using CBP's PGA Message Set in ACE (Beta Pilot Test Announcement). The notice sought up to 50 Beta Pilot participants and provided a 60-day comment period for CPSC's Paperwork Reduction Act (PRA) burden estimate for the Beta Pilot test. Pursuant to this notice, the Beta Pilot test is underway with 38 participants; CPSC received no comment on the burden estimates provided. On September 14, 2022, CPSC published a second notice in the Federal Register providing a 30-day public comment period on the burden estimates for the Beta Pilot test, as required by the PRA. 87 FR 56407. CPSC received no comments. Subsequently, the Office of Management and Budget (OMB) assigned control number 3041-0193 for the Beta Pilot test.

In 2023, CPSC and CBP began the Beta Pilot test, which is ongoing with 38 importer participants, along with their trade partners, such as brokers and laboratories. On December 8, 2023, CPSC published a supplemental notice of proposed rulemaking (SNPR) to revise 16 CFR part 1110 to, among other things, require eFiling of certificate data. 88 FR 85760. In this notice, CPSC and CBP announce their joint intent to expand the Beta Pilot test to include up to an additional 2,000 importer participants and to extend the Beta Pilot test for up to three years, or until an effective date of a final rule implementing an eFiling requirement. Accordingly, CPSC is seeking comment on a revised burden estimate for the collection of information related to the expanded Beta Pilot test, as required by the PRA.

CPSC's previous Beta Pilot Test Announcement (87 FR 35513, 35517-18) discussed CBP and CPSC's legal authority to conduct the Beta Pilot test. Additionally, the Beta Pilot Test Announcement and the recent SNPR to revise 16 CFR part 1110 explained CPSC's authority to require electronic filing of certificate data at the time of entry, or entry summary, if both are filed together. 87 FR 35513, 35518; 88 FR 85760, 85760-62.

A. Expansion of the Beta Pilot Test ³

³ On May 29, 2024, the Commission voted (5-0) to publish this notice.

The June 10, 2022, Beta Pilot Test Announcement explained CPSC's authority to require eFiling, the Alpha Pilot,⁴ and the Beta Pilot test, including its purpose, structure, and burden. 87 FR 35513. The Beta Pilot Test Announcement also described the Commission's direction for an eFiling Program, explaining that on December 18, 2020, the Commission approved staff's recommended plan to implement a permanent eFiling program at CPSC.⁵ The Beta Pilot test and the December 8, 2023 SNPR (88 FR 85760) are in furtherance of CPSC's eFiling Program. In 2024, CPSC staff expects to submit for Commission consideration a draft final rule to require eFiling of certificate data. In the interim, CPSC and CBP intend to expand the Beta Pilot test (expanded Beta Pilot test) to allow importers of regulated consumer products and substances to voluntarily participate in the eFiling program for up to three years, or until an effective date of a final rule implementing an eFiling requirement.

⁴ The eFiling Alpha Pilot test was a six-month joint initiative between CPSC and CBP that assessed the infrastructure and processes necessary for electronic filing of data, and successfully demonstrated the ability of eight U.S. importers, their customs brokers, CBP, and CPSC to work together to gather and electronically file these data at import. CPSC staff provided a report on the pilot, which is available at: https://www.cpsc.gov/s3fs-public/eFiling_Alpha_Pilot_Evaluation_Report-May_24_2017.pdf?uK.UhjHabKD5yjQ.1w06tudrnvuuWIra, published April 2017.

⁵ The 2020 staff briefing package to implement an eFiling program at CPSC is available at: https://cpsc.gov/s3fs-public/CPSC-Plan-to-Create-an-eFiling-Program-for-Imported-Consumer-Products.pdf?BYXOLX2gJmF4NaAN1LCMmqiXRISuaRkr=. The Record of Commission Action is available at: https://www.cpsc.gov/s3fs-public/RCA-CPSC-Plan-to-Create-an-eFiling-Program-for-Imported-Consumer-Products.pdf.

Participation in the expanded Beta Pilot test will allow importers to assess and refine capabilities for eFiling certificate data elements into ACE via a PGA Message Set. The expanded Beta Pilot test provides additional members of the import community more time to gradually prepare for and begin eFiling PGA Message Sets. Like the current Beta Pilot test, the expanded test will involve eFiling certificate data for regulated consumer products and substances under CPSC's jurisdiction that are classified under approximately 300 Harmonized Tariff Schedule (HTS) codes.⁶ Current participants may participate in the expanded Beta Pilot test and should inform CPSC of their interest in continuing in the Beta Pilot.

⁶ The products classified under the approximately 300 HTS codes that participants should expect to be tested in the Beta Pilot, include, but are not limited to: All Terrian Vehicles (ATVs); durable infant or toddler products, such as baby carriages, cribs, and safety gates; children's furniture, backpacks, and school supplies; bicycle helmets; bicycles and other electric-powered cycles; clothing (sleepwear, outerwear, infant articles, potentially flammable adult clothing articles); drywall; fireworks; children's jewelry; lighters; liquid nicotine; mattresses; pacifiers and rattles; rugs; and toys.

The expanded Beta Pilot test will allow CPSC to further scale up the information technology (IT), procedural, and processing requirements of the Product Registry and the Risk Assessment Methodology system (RAM) before the anticipated full implementation. For example, CPSC will scale up IT systems to accept data for regulated consumer products from more importers; refine the required infrastructure for the real-time collection and use of data; and continue development of internal and external procedures to supply, use, and maintain certificate data. Expanding the Beta Pilot test will enable CPSC to continue developing RAM algorithms to triage import data received from CBP to detect more effectively noncompliant consumer products arriving at ports of entry.

To accommodate expansion of the Beta Pilot test, this notice seeks up to 2,000 additional participants and revises CPSC's PRA analysis to accommodate these additional participants by revising the estimated annual burden to participants.

B. Use of the Automated Commercial Environment

CPSC is conducting the expanded Beta Pilot test in coordination with CBP and using the ACE system through which CBP collects importation and entry data, thus streamlining business processes and ensuring cargo security and compliance with U.S. laws and regulations. CBP developed ACE as the “single window” for the trade community to comply with the International Trade Data System (ITDS) requirement established by the Security and Accountability for Every (SAFE) Port Act of 2006. Trade filers must submit data to ACE using an EDI system, such as the Automated Broker Interface (ABI). Commercial trade participants, or the licensed customs brokers acting on their behalf, can electronically file entry data in ACE using ABI. A PGA Message Set allows the trade to enter agency-specific data along with entry data, through ABI, and for PGAs, such as CPSC, to receive this additional trade-related data.

II. Beta Pilot Test: Certificate Data

The expanded Beta Pilot test will follow the same structure as the existing Beta Pilot test, with two different methods of filing certificate data using the PGA Message Set: (1) filing a minimum of seven data elements (Full PGA Message Set), or (2) filing only a reference to certificate data stored in a Product Registry maintained by CPSC (Reference PGA Message Set). Participants submit certificate data for regulated finished products, either as the Full PGA Message Set or the Reference PGA Message Set, in ACE at the time of entry filing or entry summary filing if both entry and entry summary are filed together. CBP then makes available to CPSC the PGA Message Set data and its corresponding entry data, for CPSC's validation, risk assessment, and admissibility determinations at entry, thereby facilitating compliant trade as well as sharpening CPSC focus on noncompliant trade. CPSC uses eFiled certificate data to review consumer product entry requirements and allow for earlier risk-based admissibility decisions to be made by CPSC staff. Additionally, because it is electronic, the PGA Message Set will eliminate or substantially reduce the necessity for submission and subsequent handling of paper documents. Section II of the 2022 Beta Pilot Test Announcement details the expected PGA Message Set data from a certificate of compliance as well as the methods for filing such data. 87 FR 35513, 35516-17.

CPSC's supplemental CATAIR guideline on filing certificate data through the PGA Message Set describes the technical specifications for filing during the expanded Beta Pilot test, as well as the Product Registry and Reference PGA Message Set.⁷ Technical comments on CPSC's supplemental CATAIR guideline should be submitted in accordance with the instructions in the ADDRESSES section at the beginning of this notice.

⁷ For links to CPSC's CATAIR, see supra, fns 1 and 2.

III. Beta Pilot Test Participant Eligibility, Selection Criteria, and Responsibilities

This document announces CPSC's plan, in consultation with CBP, to expand the number of Beta Pilot test participants from 50 up to 2,000 importers, and to extend the Beta Pilot test period from six months to up to three years, or until an effective date of a final rule implementing an eFiling requirement. Accordingly, CPSC and CBP seek additional Beta Pilot test participants. U.S.-based importers with an assortment of CPSC-regulated products may participate in the Beta Pilot test. To be eligible to apply as a test participant, the applicant must:

• Import regulated consumer products within the Commission's jurisdiction;

• File consumption entries and entry summaries in ACE, or have a broker who files in ACE;

• Use a software program that has completed ACE certification testing for the PGA Message Set; and

• Work with CPSC and CBP to test electronic filing of data using ABI to file through the Message Set, or references to certificate data in the Product Registry.

CPSC anticipates that the benefits of participation in the Beta Pilot test may include, but will not necessarily be limited to:

• Opportunity to work directly with CBP and CPSC in the pre-implementation stage of the requirement to file certificate data; and

• Ability to trouble-shoot systems and procedures.

IV. Application Process and Test Duration

Any importer seeking to participate in the test should email their company name, contact information, importer of record number(s), filer code(s), and an explanation of how they satisfy the requirements for participation to the address listed at the beginning of this notice. CPSC will consider applications to participate for three years, until reaching the expanded Beta Pilot test capacity of 2,000 participants, or until the effective date of a final rule, whichever comes first. CPSC will notify expanded Beta Pilot test applicants of approval to participate by email and will work with importers to onboard into the Pilot on a first come, first served basis. Depending on the level of interest, CPSC may restrict on-boarding of new participants, at least in the beginning of the expanded Beta Pilot test, to accommodate all participants successfully and smoothly.

V. Paperwork Reduction Act

The Beta Pilot test contains information collection requirements that are subject to public comment and review by OMB under the PRA of 1995 (44 U.S.C. 3501-3521). CPSC previously received an OMB control number for the existing Beta Pilot test: 3041-0193. CPSC now seeks to expand the number of participants in this test up to 2,000 and extend the test duration for up to three additional years (2027), or until an effective date of a final rule implementing an eFiling requirement. In this document, pursuant to 44 U.S.C. 3507(a)(1)(D), we set forth:

• a title for the collection of information;

• a summary of the collection of information;

• a brief description of the need for the information and the proposed use of the information;

• a description of the likely respondents and proposed frequency of responses to the collection of information;

• an estimate of the burden that shall result from the collection of information; and

• notice that comments may be submitted to the OMB.

Title: Beta Pilot Test for eFiling Certificates of Compliance.

Description: During the Beta Pilot test of CBP's PGA Message Set abilities through ACE, up to 2,000 participating importers of regulated consumer products will electronically file the requested certificate data, comprised of seven data elements, at the time of entry filing, or entry summary filing, if both entry and entry summary are filed together. Participants will have two ways to file certificate data during the Beta Pilot test: (1) filing certificate data in a CPSC-maintained Product Registry, and filing a reference number in ACE to this data set, through ABI, each time the product is imported thereafter (Reference PGA Message Set), or (2) filing all certificate data elements directly through ABI each time the product is imported (Full PGA Message Set). CPSC will receive the information from CBP through a real-time transfer of import data, and the agency will risk score the information in CPSC's RAM system to assist in the interdiction of noncompliant consumer products.

As set forth in section V.B of the Beta Pilot Test Announcement (87 FR 35513, 35517-18), the requirement to create and maintain certificates, including the data elements, is set forth in section 14 of the Consumer Product Safety Act (CPSA). Section 14(a) of the CPSA requires manufacturers (including importers) and private labelers of certain regulated consumer products manufactured outside the United States to test and issue a certificate certifying such products as compliant with applicable laws and regulations before importation. 15 U.S.C. 2063(a). Section 14(g)(1) of the CPSA describes the data required on a certificate. Section 14(g)(3) requires a certificate to accompany the applicable product or shipment of products covered by the certificate, and that certifiers must furnish the certificate to each distributor or retailer of the product. Upon request, certificates must also be furnished to CPSC and CBP. Section 14(g)(4) provides that “[i]n consultation with the Commissioner of Customs, the Commission may, by rule, provide for the electronic filing of certificates under this section up to 24 hours before arrival of an imported product.” 15 U.S.C. 2063(g)(4). The Commission issued an SNPR to require eFiling on December 8, 2023. 88 FR 85760.

Because certificates are required by statute, this analysis focuses on the burden for CPSC to accept, and importers to provide, certificate data elements electronically at the time of entry filing, and not to collect and maintain certificate data more generally. Importer requirements in the Beta Pilot test for providing certificate data electronically at the time of entry filing fall within the definition of “collection of information,” as defined in 44 U.S.C. 3502(3).

Description of Respondents: Up to 2,000 importer participants who import regulated consumer products within CPSC's jurisdiction.

Estimated Burden: We estimate the burden of this collection of information as follows:

CPSC used information provided by Alpha Pilot test participants to inform the estimated burden for the Beta Pilot test. Like the existing Beta Pilot test, the burden from participating in the expanded Beta Pilot test can be broken down into the burden of preparing for participation in the Pilot, the burden of maintaining the data elements separately, and as compared to the Alpha Pilot test, the additional burden of including the dates of manufacturing and lab testing. Based on feedback from the Alpha Pilot test participants, for the current Beta Pilot test, we assumed that many more participants (90%) would opt to exclusively use the Product Registry and Reference PGA Message Set, while only 10% would opt to exclusively use the Full PGA Message Set. Table 3 of the 2022 Beta Pilot Test Announcement provides the total annual burden estimate for the current Beta Pilot, estimating 9,217 annual burden hours from all participants, with an estimated annual cost (combined for all participants) of $404,764 (in 2021 dollars). 87 FR 35513, 35520. When adjusted for inflation, the total estimated annual cost to current Beta Pilot test participants in 2023 is $ $442,002.

CPSC estimates that the expanded Beta Pilot test will have similar burden per response and cost per response as the participants in the current Beta Pilot test, with the exception of burden from survey responses, which will not be required of the expanded Beta Pilot test participants.⁸ Accordingly, CPSC estimates that if an additional 2,000 importers participate, 1,800 participants will use the Product Registry and Reference PGA Message Set, while 200 participants will use the Full PGA Message Set.

⁸ The Supporting Statement for this burden estimate, placed on Regulations.gov under CPSC Docket No. CPSC-2022-0020 contains the estimates for the existing Beta Pilot test and the expanded Beta Pilot test.

Tables 1-3 contain burden estimates for the expanded Beta Pilot test, which are in addition to the burden estimates provided in the 2022 Beta Pilot Test Announcement for up to 50 participants. Table 1 shows an estimated 1,800 additional participants will use the Reference PGA Message Set and bear an annual burden of 265,000 hours, with an estimated total annual cost for all participants of $13,593,303.⁹

⁹ The previous estimate for burden cost came from wage data for survey and filing entry-line data comes from the U.S. Bureau of Labor Statistics, “Employer Costs for Employee Compensation,” September 2021, Table 4, total compensation for all sales and office workers in goods-producing private industries: http://www.bls.gov/ncs/. For the expanded Beta Pilot test, the costs per response applied to participants are updated to 2023 dollars using the BLS “Employment Cost Index” (url: https://www.bls.gov/eci/tables.htm).

Table 1—Expanded Beta Pilot Test Burden Estimates Product Registry and Reference PGA Message Set
Type of respondent | Number of respondents | Number of responses per respondent | Number of responses | Average burden per response (in hours) | Total annual burden (in hours) | Average cost per response | Total annual respondent cost *
Product Registry Only | A | B | C (= A × B) | D | E (= C × D) | F | G (= C × F)
Pilot Participation | 1,800 | 1 | 1,800 | 91 | 163,800 | $5,382.47 | $9,688,442
Gathering and Submitting Data Elements | 1,800 | 1 | 1,800 | 27 | 47,800 | 1,033.25 | 1,859,851
Filing Entry-Line | 1,800 | 10,000 | 18,000,000 | 0.003 | 54,000 | 0.1136 | 2,045,010
Total |  |  | 18,003,600 |  | 265,600 |  | 13,593,303
* Note: Due to rounding the products and summations may be slightly off.

Table 2 shows an estimated 200 additional participants will use the Full PGA Message Set and bear an annual burden of 17,600 hours, and an estimated total annual cost for all participants of $943,532.

Table 2—Expanded Beta Pilot Test Burden Estimates Product Registry and Full PGA Message Set
Type of respondent | Number of respondents | Number of responses per respondent | Number of responses | Average burden per response (in hours) | Total annual burden (in hours) | Average cost per response | Total annual respondent cost *
Full PGA message set only | A | B | C (= A × B) | D | E (= C × D) | F | G (= C × F)
Pilot Participation | 200 | 1 | 200 | 30 | 6,000 | $2,451.54 | $490,308
Gathering and Submitting Data Elements | 200 | 1 | 200 | 13 | 2,600 | 561.94 | 112,388
Filing Entry-Line | 200 | 1,500 | 300,000 | 0.030 | 9,000 | 1.1361 | 340,835
Total |  |  | 300,400 |  | 17,600 |  | 943,532
* Note: Due to rounding the products and summations may be slightly off.

Table 3 provides the estimated total burden for expanding the Beta Pilot test of 283,000 burden hours for the 2,000 new participants, and an estimated total annual cost for all participants of $14,536,835.

Table 3—Expanded Beta Pilot Test Burden Estimates Product Registry and Full PGA Message Set
Type of respondent | Number of respondents | Number of responses per respondent | Number of responses | Average burden per response (in hours) | Total annual burden (in hours) | Average cost per response | Total annual respondent cost *
Total burden | A | B | C (= A × B) | D | E (= C × D) | F | G (= C × F)
Pilot Participation | 2,000 | 1 | 2,000 | 85 | 169,800 | $5,089.38 | $10,178,750
Gathering and Submitting Data Elements | 2,000 | 1 | 2,000 | 25 | 50,400 | 986.12 | 1,972,239
Filing Entry-Line | 2,000 | 9,150 | 18,300,000 | 0.003 | 63,000 | 0.1304 | 2,385,845
Total |  |  | 18,304,000 |  | 283,200 |  | 14,536,835
* Note: Due to rounding the products and summations may be slightly off.

In compliance with the PRA of 1995 (44 U.S.C. 3507(d)), CPSC will submit the additional expanded Beta Pilot test information collection revision to the OMB for review. Pursuant to 44 U.S.C. 3506(c)(2)(A), we request comment on this burden estimate and the analysis, including:

• whether the collection of information is necessary for the proper performance of the CPSC's functions, including whether the information will have practical utility;

• the accuracy of the CPSC's estimate of the burden of the proposed collection of information, including the validity of the methodology and assumptions used;

• ways to enhance the quality, utility, and clarity of the information to be collected; and

• ways to reduce the burden of the collection of information on respondents, including the use of automated collection techniques, when appropriate, and other forms of information technology.

VI. Confidentiality

All data submitted and entered into ACE is subject to the Trade Secrets Act (18 U.S.C. 1905) and is considered confidential, except to the extent as otherwise provided by law. As stated in previous notices, participation in this or any of the previous ACE tests is not confidential and upon a written Freedom of Information Act (FOIA) request, a name(s) of an approved participant(s) will be disclosed by CPSC or CBP in accordance with 5 U.S.C. 552.

Alberta E. Mills,
Secretary, Consumer Product Safety Commission.

[FR Doc. 2024-12194 Filed 6-3-24; 8:45 am]

BILLING CODE 6355-01-P